NUCLEAR REGULATORY COMMISSION

Draft Regulatory Guide DG-1096 and Draft Standard Review Plan Section 15.0.2

AGENCY: Nuclear Regulatory Commission.

ACTION: Notice of public workshop.

SUMMARY: The Executive Director for Operations (EDO) of the Nuclear Regulatory Commission has instructed the NRC staff to resolve several issues resulting from the Independent Safety Assessment of the Maine Yankee Atomic Power Station. Of the eleven items identified by the EDO, four were concerned with analytical code validation, review, documentation and compliance with generic safety evaluations. All of these issues were generic in nature and resulted in the issuance of the two draft documents for public comment that are the subject of this workshop. The public comment period for these draft documents ended on February 15, 2001. It is the purpose of the workshop to exchange information among interested parties on the two documents and the comments received. After considering all comments and information, the NRC would issue the documents in their final form as acceptable guidance to licensees and vendors and to the NRC staff for review of analytical models.

DATES: April 9, 2001, 8 a.m.-5:30 p.m.

ADDRESSES: NRC Auditorium, (TWFN) of the Nuclear Regulatory Commission, 11545 Rockville Pike, Rockville, Maryland 20852.

AGENDA: To be provided.

SUPPLEMENTARY INFORMATION: This notice serves as notification of a public workshop to provide for the exchange of information with all stakeholders regarding the staff's efforts to provide comprehensive guidance for development, assessment and review of analytical methods used to calculate acceptable behavior of design basis events described in Chapter 15 of the Standard Review Plan (SRP) (NUREG-0800). The NRC encourages stakeholders to make presentations at this workshop on the subject documents. In particular should the documents provide additional information on simplified conservative analyses methods or incremental changes to existing evaluation models?

This notice provides only the date, the location and a brief summary of the workshop. The workshop agenda will be provided at the workshop after integrating all requests for presentations.

Workshop Meeting Information

The staff intends to conduct a workshop to provide for an exchange of information related to Draft Regulatory Guide DG-1096 and SRP Section 15.0.2. Persons other than NRC staff and NRC contractors interested in making a presentation at the workshop should notify Norman Lauben, Office of Nuclear Regulatory Research, MS: T10-K08, U.S. Nuclear Regulatory Commission, Washington DC 20555-0001, (301) 415-6762, email: gnl1@nrc.gov.

Registration

There is no registration fee for the workshop; however, so that adequate space, materials, etc., for the workshop can be arranged, please provide notification of attendance to Norman Lauben, Office of Nuclear Regulatory Research, MS: T10-K08, U.S. Nuclear Regulatory Commission, Washington, DC 20555-0001, (301) 415-6762, email: gnl1@nrc.gov.

FOR FURTHER INFORMATION CONTACT: Norman Lauben, SMSAB, Division of Systems Analysis and Regulatory Effectiveness, Office of Nuclear Regulatory Research, Washington, DC 20555-0001, telephone (301) 415-6762, email: GNL1@nrc.gov.

Dated at Rockville, Maryland, this 15th day of February 2001.
For the Nuclear Regulatory Commission.
Farouk Eltawila,
Acting Director, Division of Systems Analysis and Regulatory Effectiveness, Office of Nuclear Regulatory Research.

[FR Doc. 01-4372 Filed 2-21-01; 8:45 am]

BILLING CODE 7590-01-P